DEPARTMENT OF JUSTICE

National Institute of Corrections

Solicitation for a Cooperative Agreement: Training for Parole Board Members

AGENCY: National Institute of Corrections, Department of Justice.

ACTION: Solicitation for a cooperative agreement.

SUMMARY: The National Institute of Corrections (NIC) is soliciting proposals from organizations, groups or individuals who would like to enter into a cooperative agreement with NIC to develop a 24-36 hour field tested curriculum to train parole board members. The curriculum should include a blended approach to training utilizing instructor-led face-to-face and Web-based instructional delivery strategies.

DATES: Applications must be received by 2 p.m. EDT on Tuesday, July 29, 2008.

ADDRESSES: Mailed applications must be sent to: Director, National Institute of Corrections, 320 First Street, NW., Room 5007, Washington, DC 20534. Applicants are encouraged to use Federal Express, UPS, or similar service to ensure delivery by the due date.

Hand delivered applications should be brought to 500 First Street, NW., Washington, DC 20534. At the front desk, dial 7-3106, extension 0 for pickup.

Faxed applications will not be accepted. Electronic applications can be submitted via http://www.grants.gov.

FOR FURTHER INFORMATION CONTACT: A copy of this announcement and the required application forms can be downloaded from the NIC Web page at http://www.nicic.gov.

All technical or programmatic questions concerning this announcement should be directed to Carla J. Smalls, Correctional Program Specialist, National Institute of Corrections at cjsmalls@bop.gov or to George M. Keiser at gkeiser@bop.gov.

SUPPLEMENTARY INFORMATION: Overview: The overall goal of the initiative is to design, develop, field test and revise a training curriculum for parole board members that will:

Describe the role and function of parole within the criminal justice system;

Promote the use of Evidence Based Practices in parole and revocation decision making;

Describe parole's responsibility in the transition/reentry of offenders;

Clarify the collaborative role of parole with other stakeholders within the criminal justice system;

Illustrate the use of management information systems and technology in the processing of parole, early release and revocation cases;

Examine the core competencies that parole board members must possess to be effective.

This curriculum must conform to the principles presented in the Comprehensive Framework for Paroling Authorities in an Era of Evidence-Based Practices. This document can be found at the Web site http://www.nicic.org/Downloads/PDF/Library/022906.pdf.

Background: Parole can be defined as both a procedure by which a board administratively releases inmates from prison as well as a provision for post-release supervision. This training focuses on the functions of administrative release and revocation of this release by paroling authorities. For our discussion, parole is defined as the release of an offender from imprisonment to the community by a releasing authority (parole board or paroling authority) prior to the expiration of the offender's sentence, subject to conditions imposed by the releasing authority. Revocation is the action of a releasing authority removing a person from parole status in response to a violation of conditions.

Since eligibility for release on parole is a matter of state law, there is considerable variation in the location, administration and organization of paroling authorities in the United States. All states have parole boards and these boards may be independent agencies that have responsibility for release decisions or a branch of a department of corrections or a community corrections agency. In these organizational structures, boards may also have responsibility for staff that monitor the supervision of parolees in the community.

Regardless of the structure, governors/governments are usually ill-equipped to select, hire and train the caliber of individuals needed to do this important work that has a significant impact on public safety and the economy of a state. Thirteen governors of states or U.S. territories will be up for election this year. Election of a new governor usually results in the appointment of new parole board members and most of these appointments do not have a background in criminal justice or an understanding of the magnitude of the work.

As stated by Burke and Tonry, in the publication “Successful Transition and Reentry for Safer Communities: A Call to Action for Parole”, in the course of one year, roughly 200 individuals who make up the United States parole boards are responsible for determining the timing of release on parole and determining the conditions of release on parole for 128,708 offenders. During the same year they are responsible for setting conditions of release for an additional 288,679 individuals on mandatory parole and conditional release. They are also responsible for overseeing compliance with conditions and responding to revocations for 643,452 individuals on a given day during the year. Over the course of the year, they also send 227,690 individuals to prison as a result of parole revocations.

Along with handling the sheer volume of the work, without a background in criminal justice, being a parole board member is not considered a career or rarely leads to long term employment. Members rotate on and off the job as governors come in and leave office, resulting in limited consistent overview from the appointing authority and little incentive to examine the vision, mission and goals of the parole board with the intent of organizing the work to produce a more effective agency. Lack of training increases the likelihood that parole board members will rely on “popular but unproven criminal justice theories” to guide their decision making. For example, attitudes and opinions that lead to parole board members imposing numerous conditions of parole or revoking technical violators may reflect a get tough on crime mentality. Instead of these attitudes and opinions, paroling authorities must obtain the knowledge, skills, and resources to enable them to perform their work as a bridge between the correctional institution and the community.

Scope of Work: Under this cooperative agreement, the single goal is the development, testing, and revision of a curriculum to train parole board members.

The following represents a description of the products:

Delivery of a curriculum, to be conducted at a centrally located site.

Description: The training program provides participants with information and training about parole and the criminal justice system that are critical to effectively performing the job of a parole board member. The training will build on the principles established in the “Comprehensive Framework for Paroling Authorities in an Era of Evidence-Based Practices”. The resource provider must consider and use NIC's available curriculum or position statements relative to transition, Evidence-Based Practices, and parole decision making in the development of the training program. Final curriculum must be approved in advance by NIC. The resource provider would be expected to duplicate participant and trainer materials, including three-ring binders, specified index tabs and inserts for each participant, one copy for the training team and a copy for NIC.

Work to be performed: The provider shall:

Consult with the Correctional Program Specialist (CPS) assigned to manage the cooperative agreement to ensure understanding of, and agreement on, the scope of work to be performed;

Submit a detailed work plan with time lines for accomplishing project activities (See Scope of Work) to CPS for approval prior to any work to be performed under this agreement;

Designate a point of contact, which would serve as the conduit of information and work experience between the CPS and the awardee;

Review pertinent NIC curriculum and/or documents in the development of the curriculum;

Consult with CPS concerning trainers for program delivery. NIC will have final approval of training program faculty. The program must be staffed with at least 3 trainers;

Consult with the CPS and the Research and Evaluation Division on evaluation methodology; and

Make recommendations to CPS for any needed revisions of the curriculum.

Deliverables: The provider shall conduct a needs assessment; Design curriculum consistent with the Instructional Theory Into Practice (ITIP) model; Develop written products to support the training; Structure a reporting process that documents training; Conduct a field test of the curriculum; Provide evaluation data with recommendations for revisions to the curriculum.

Required Expertise: The successful applicant will need the skills, abilities and knowledge in the following areas:

Knowledge of the role of parole and its function within the criminal justice system;

Ability to develop curriculum using the Instructional Theory Into Practice (ITIP) format;

Expertise in a variety of instructional delivery strategies to include but not be limited to instructor-led, synchronous/asynchronous, Web-based, e-learning, etc.;

Skilled in designing training curriculum linked to training objectives;

Knowledge of evidence-based practices and offender transition, and how these areas relate to the parole process;

Knowledge of training evaluation methods; and

Effective written and oral communication skills.

National Institute of Corrections Experience: NIC has provided training assistance to the field of parole for more than 20 years in the form of annual training seminars for parole board members, conducting annual meetings for chairs of paroling authorities, providing ongoing information and staff support to include audio conferences (accessible to anyone with a telephone), developing parole specific documents, funding technical assistance initiatives targeting release decision making and violation/revocation, developing a Resource Kit for New Parole Board Members and training hearing officers. This training has been provided to parole board members and staff in the United States, U.S. territories, the military, federal commission and Canada. Boards from other nations may also participate, if their participation is not at fiscal cost to NIC.

Progress to Date: To guide the development of the training, NIC convened a group of correctional professionals to participate in three, 2-day meetings to develop a document that would articulate a strategy to assist parole board members and paroling authorities in making needed improvements. From these meetings, The “Comprehensive Framework for Paroling Authorities in an Era of Evidence-Based Practice” was developed. The “Framework” describes the overarching visionary plan that paroling authorities will need for a future of well trained board members, using evidence based practices within agencies that have sufficient staff and other resources to effectively support the release and revocation of offenders. Parole Board member and staff training is a component of this visionary plan.

Application Requirements: Applications should be concisely written, typed double spaced and reference the “NIC Application Number” and Title provided in this announcement. The application package must include: OMB Standard Form 424, Application for Federal Assistance; a cover letter that identifies the audit agency responsible for the applicant's financial accounts as well as the audit period of fiscal year that the applicant operates under (e.g., July 1 through June 30), an outline of projected costs, and the following forms: OMB Standard Form 424A, Budget Information—Non Construction Programs, OMB Standard Form 424B, Assurances—Non Construction Programs (available at http://www.grants.gov), and DOJ/NIC Certification Regarding Lobbying; Debarment, Suspension and Other Responsibility Matters; and Drug-Free Workplace Requirements (available at http://www.nicic.gov/Downloads/PDF/certif-frm.pdf.)

Applications may be submitted in hard copy, or electronically via http://www.grants.gov. If submitted in hard copy, there needs to be an original and six copies of the full proposal (program and budget narratives, application forms and assurances). The original should have the applicant's signature in blue ink.

A telephone conference will be conducted for persons receiving this solicitation and having a serious intent to respond on July 18, 2008 at 2 p.m. EDT. In this conference NIC project managers will respond to questions regarding the solicitation and expectation of work to be performed. Please notify Carla Smalls electronically (cjsmalls@bop.gov) by 12 noon EDT on July 15, 2008, regarding your interest in participating in the conference. You will be provided with a call-in number and instructions. In addition, NIC project managers will post answers to questions received from potential applicants on its Web site during the time when the solicitation is open to the public.

Authority: Public Law 93-415.

Funds Available: NIC is seeking the applicant's best ideas regarding accomplishment of the scope of work and the related costs for achieving the goals of this solicitation. The final budget and award amount will be negotiated between NIC and the successful applicant. Funds may only be used for the activities that are linked to the desired outcome of the project.

This project will be a collaborative venture with the NIC Community Corrections Division.

Eligibility of Applicants: An eligible applicant is any private agency, educational institution, organization, individual or team with expertise in the described areas.

Review Considerations: Applications received under this announcement will be subjected to a 3 to 5 person NIC Peer Review Process.

Number of Awards: One.

NIC Application Number: 08C78. This number should appear as a reference line in the cover letter, in box 4a of Standard Form 424, and outside of the envelope in which the application is sent.

Catalog of Federal Domestic Assistance Number: 16.601

Executive Order 12372: This project is not subject to the provisions of Executive Order 12372.

Morris L. Thigpen,
Director, National Institute of Corrections.

[FR Doc. E8-15149 Filed 7-2-08; 8:45 am]

BILLING CODE 4410-36-P